DEPARTMENT OF COMMERCE

National Oceanic and Atmospheric Administration

RIN 0648-XS08

Pacific Fishery Management Council; Public Meeting

AGENCY: National Marine Fisheries Service (NMFS), National Oceanic and Atmospheric Administration (NOAA), Commerce.

ACTION: Notice of a public meeting.

SUMMARY: The Pacific Fishery Management Council's (Pacific Council) Enforcement Consultants Committee (EC) will hold a working meeting, which is open to the public.

DATES: The EC meeting will be held Monday, October 26, 2009, from 1 p.m. until business for the day is completed.

ADDRESSES: The Pacific Council EC will meet via a telephone conference and will have a listening station for public access at the Pacific Council office, 7700 NE Ambassador Place, Suite 101, Portland, OR 97220.

Council address: Pacific Fishery Management Council, 7700 NE Ambassador Place, Suite 101, Portland, OR 97220-1384.

FOR FURTHER INFORMATION CONTACT: Mr. Jim Seger, Staff Officer; telephone: (503) 820-2280.

SUPPLEMENTARY INFORMATION: The purpose of the EC meeting is to review the Pacific Council's November 2009 agenda and prepare for reports to be provided to the Pacific Council at the meeting. The EC will continue development of its reports for the Pacific Council at a subsequent meeting starting at 10 a.m. on Saturday, October 31. Notice of the EC's October 31 meeting will be provided with the announcement of the Pacific Council's October 31 through November 5 meeting.

Although non-emergency issues not contained in the meeting agenda may come before the EC for discussion, those issues may not be the subject of formal EC action during this meeting. EC action will be restricted to those issues specifically listed in this notice and any issues arising after publication of this notice that require emergency action under Section 305(c) of the Magnuson-Stevens Fishery Conservation and Management Act, provided the public has been notified of the EC's intent to take final action to address the emergency.

Special Accommodations

This meeting is physically accessible to people with disabilities. Requests for sign language interpretation or other auxiliary aids should be directed to Ms. Carolyn Porter at (503) 820-2280 at least 5 days prior to the meeting date.

Dated: October 2, 2009.
Tracey L. Thompson,
Acting Director, Office of Sustainable Fisheries, National Marine Fisheries Service.

[FR Doc. E9-24194 Filed 10-7-09; 8:45 am]

BILLING CODE 3510-22-S